DEPARTMENT OF TRANSPORTATION

Federal Aviation Administration

14 CFR Part 39

[Docket No. FAA-2008-0152; Directorate Identifier 2007-NM-348-AD]

RIN 2120-AA64

Airworthiness Directives; Boeing Model 737-400, -500, -600, -700, -700C, -800, and -900 Series Airplanes

AGENCY: Federal Aviation Administration (FAA), DOT.

ACTION: Notice of proposed rulemaking (NPRM).

SUMMARY: We propose to adopt a new airworthiness directive (AD) for certain Boeing Model 737-400, -500, -600, -700, -700C, -800, and -900 series airplanes. This proposed AD would require an inspection to determine the part and serial numbers of the windshield wiper motors for the pilot's and first officer's windshields, and the applicable corrective action. This proposed AD results from two reports that the left and right windshield wipers stopped working in flight. We are proposing this AD to prevent failure of the windshield wipers in wet weather, which could result in decreased visibility for the flightcrew.

DATES: We must receive comments on this proposed AD by March 24, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Nick Wilson, Aerospace Engineer, Cabin Safety and Environmental Systems Branch, ANM-150S, FAA, Seattle Aircraft Certification Office, 1601 Lind Avenue, SW., Renton, Washington 98057-3356; telephone (425) 917-6476; fax (425) 917-6590.

SUPPLEMENTARY INFORMATION:

Comments Invited

We invite you to send any written relevant data, views, or arguments about this proposed AD. Send your comments to an address listed under the ADDRESSES section. Include “Docket No. FAA-2008-0152; Directorate Identifier 2007-NM-348-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received two reports that the left and right windshield wipers stopped working in flight. In one incident, the left and right windshield wiper motors stopped at the same time during a landing approach in wet weather. Investigation revealed that the power converter module for the windshield wipers was not properly soldered. Failure of the windshield wipers in wet weather, if not corrected, could result in decreased visibility for the flightcrew.

Other Related Rulemaking

On October 2, 2003, we issued AD 2003-20-13, amendment 39-13331 (68 FR 58268, October 9, 2003), applicable to certain Boeing Model 737-400, -500, -600, -700, and -800 series airplanes. That AD requires either modification of the wiring to the windshield wiper motors in the flight compartment or replacement of those windshield wiper motor/converters with new motor/converters. That AD resulted from reports of the windshield motors stalling during flight. We issued that AD to prevent a reduction in flightcrew visibility due to stalled wiper motors during heavy precipitation and a period of substantial crew workload, which could result in damage to the airplane structure and injury to flightcrew, passengers, or ground personnel during final approach for landing. For certain airplanes, accomplishing the modification required by paragraph (b) of AD 2003-20-13 is acceptable for compliance with certain requirements of this proposed AD.

Relevant Service Information

We have reviewed Boeing Service Bulletin 737-30A1057, Revision 1, dated October 31, 2007, for Model 737-600, -700, -700C, -800, and -900 series airplanes; and Boeing Alert Service Bulletin 737-30A1059, dated September 10, 2007, for Model 737-400 and -500 series airplanes. The service bulletins describe procedures for looking at the windshield wiper motors for the pilot's and first officer's windshields to determine the part number and serial number of the windshield wiper motors, and doing the applicable corrective action. The corrective actions include the following:

• Replacing the windshield wiper motor with an improved windshield wiper motor if the part and serial numbers cannot be read, or if the part and serial numbers are listed in Appendix A of Rosemount Aerospace Service Bulletin 2313M-347/2313M-348-30-01, dated June 30, 2006, and the “Module Replacement Completed (Yes/No)” column is marked “No.” (The part number is identified as the model number in Appendix A of the Rosemount Aerospace service bulletin.)

• Changing the part number if the part and serial numbers are not listed in Appendix A of Rosemount Aerospace service bulletin, or if the part and serial numbers are listed in Appendix A of Rosemount Aerospace service bulletin and the “Module Replacement Completed (Yes/No)” column is marked “Yes.”

The Boeing service bulletins refer to the Rosemount Aerospace service bulletin as an additional source of service information for determining whether the windshield wiper motor has been previously replaced and for changing the part number.

FAA's Determination and Requirements of This Proposed AD

We are proposing this AD because we evaluated all relevant information and determined the unsafe condition described previously is likely to exist or develop in other products of the(se) same type design(s). This proposed AD would require accomplishing the actions specified in the service information described previously.

Costs of Compliance

We estimate that this proposed AD would affect 767 airplanes of U.S. registry. We also estimate that it would take about 1 work-hour per product to comply with the proposed inspection. The average labor rate is $80 per work-hour. Based on these figures, we estimate the cost of this proposed AD to the U.S. operators to be $61,360 or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Boeing: Docket No. FAA-2008-0152; Directorate Identifier 2007-NM-348-AD.

Comments Due Date

(a) We must receive comments by March 24, 2008.

Affected ADs

(b) None.

Applicability

(c) This AD applies to the Boeing airplanes identified in paragraphs (c)(1) and (c)(2) of this AD, certificated in any category.

(1) Model 737-400 and -500 series airplanes as identified in Boeing Alert Service Bulletin 737-30A1059, dated September 10, 2007.

(2) Model 737-600, -700, -700C, -800, and -900 series airplanes as identified in Boeing Service Bulletin 737-30A1057, Revision 1, dated October 31, 2007.

Unsafe Condition

(d) This AD results from two reports that the left and right windshield wipers stopped working in flight. We are issuing this AD to prevent failure of the windshield wipers in wet weather, which could result in decreased visibility for the flightcrew.

Compliance

(e) Comply with this AD within the compliance times specified, unless already done.

Inspection and Corrective Actions if Necessary

(f) Within 60 months after the effective date of this AD, inspect to determine the part number and serial number of the windshield wiper motors for the pilot's and first officer's windshields, and do all the applicable corrective actions, by accomplishing all of the applicable actions specified in the Accomplishment Instructions of Boeing Alert Service Bulletin 737-30A1059, dated September 10, 2007 (for Model 737-400 and -500 series airplanes); or Boeing Service Bulletin 737-30A1057, Revision 1, dated October 31, 2007 (for Model 737-600, -700, -700C, -800, and -900 series airplanes); as applicable. A review of airplane maintenance records is acceptable in lieu of the inspection if the part number and serial number of the windshield wiper motors can be conclusively determined from that review.

Note 1: The Boeing service bulletins refer to Rosemount Aerospace Service Bulletin 2313M-347/2313M-348-30-01, dated June 30, 2006, as an additional source of service information for determining whether the windshield wiper motor has been previously replaced and for changing the part number.

Credit for Modification Done According to AD 2003-20-13

(g) For Model 737-400, -500, -600, -700, and -800 series airplanes: Accomplishing the modification required by paragraph (b) of AD 2003-20-13, amendment 39-13331, is acceptable for compliance with the requirements of paragraph (f) of this AD, provided that no Rosemount Aerospace windshield wiper motor having part number (P/N) 2313M-347-3 or P/N 2313M-348-3 has been installed.

Credit for Actions Done According to Previous Issue of Service Bulletin

(h) For Model 737-600, -700, -700C, -800, and -900 series airplanes: Actions done before the effective date of this AD in accordance with Boeing Alert Service Bulletin 737-30A1057, dated October 6, 2006, are acceptable for compliance with the requirements of paragraph (f) of this AD.

Parts Installation

(i) As of the effective date of this AD, no person may install Rosemount Aerospace windshield wiper motors having P/N 2313M-347-3 or P/N 2313M-348-3 on any airplane.

Alternative Methods of Compliance (AMOCs)

(j)(1) The Manager, Seattle Aircraft Certification Office, FAA, ATTN: Nick Wilson, Aerospace Engineer, Cabin Safety and Environmental Systems Branch, ANM-150S, 1601 Lind Avenue, SW., Renton, Washington 98057-3356; telephone (425) 917-6476; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on January 31, 2008.
Ali Bahrami,
Manager, Transport Airplane Directorate, Aircraft Certification Service.

[FR Doc. E8-2355 Filed 2-7-08; 8:45 am]

BILLING CODE 4910-13-P